DEPARTMENT OF TRANSPORTATION

Office of the Secretary

Certificates of Public Convenience and Necessity and Foreign Air Carrier Permits

Notice of Applications for Certificates of Public Convenience and Necessity and Foreign Air Carrier Permits Filed Under Subpart B (formerly Subpart Q) during the Week Ending April 20, 2013. The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2013-0082.

Date Filed: April 17, 2013.

Due Date for Answers, Conforming Applications, or Motion to Modify Scope: May 8, 2013.

Description: Joint application of American Airlines, Inc., US Airways, Inc., American Eagle Airlines, Inc., PSA Airlines, Inc. and Piedmont Airlines, Inc. (collectively, the “Joint Applicants”) requesting approval of the de facto route transfer of US Airways', PSA's, and Piedmont's route authority to AA/Eagle, and the reissuance of the route authorities of all the carriers in order to comply with the applicable aviation statutes.

Barbara J. Hairston,
Acting Program Manager, Docket Operations, Federal Register Liaison.

[FR Doc. 2013-10308 Filed 5-1-13; 8:45 am]

BILLING CODE 4910-9x-P